ENVIRONMENTAL PROTECTION AGENCY

[OW-2004-0020; FRL-7889-1]

Agency Information Collection Activities; Submission to OMB for Review and Approval; Comment Request; Willingness to Pay Survey: Phase III Cooling Water Intake Structures, EPA ICR Number 2155.01

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before April 25, 2005.

ADDRESSES: Submit your comments, referencing docket ID number OW-2004-0020, to (1) EPA online using EDOCKET (our preferred method), by e-mail to OW-Docket@epa.gov, or by mail to: EPA Docket Center, Environmental Protection Agency, Water Docket, Mail Code 4101T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Erik Helm, USEPA/OST/EAD, Mail Code 4303T, Environmental Protection Agency, 1200 Pennsylvania Ave., NW., Washington, DC 20460; telephone number: (202) 566-1066; fax number: (202) 566-1054; e-mail address: helm.erik@epamail.epa.gov.

SUPPLEMENTARY INFORMATION: EPA has submitted the following ICR to OMB for review and approval according to the procedures prescribed in 5 CFR 1320.12. On November 23, 2004, (69 FR 68140), EPA sought comments on this ICR pursuant to 5 CFR 1320.8(d). EPA has addressed the comments received.

EPA has established a public docket for this ICR under Docket ID No. OW-2004-0020, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426 An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Willingness to Pay Survey: Phase III Cooling Water Intake Structures

Abstract: The U.S. Environmental Protection Agency (EPA) is in the process of developing new regulations to provide national performance standards for controlling impacts from cooling water intake structures (CWIS) for Phase III facilities under section 316(b) of the Clean Water Act (CWA). In order to develop comprehensive quantified benefit estimates, for these performance standards EPA proposes to conduct a stated preference study to estimate the non-use benefits of reduced fish losses at CWIS. The study would focus on a broad range of fish species, including forage fish and a variety of fish species harvested by commercial and recreational fishermen.

The purpose of this information collection request is to solicit public comment on and obtain approval for conducting twelve focus groups that will assist in the design of the stated preference survey. EPA will use these focus groups to better understand the public's perceptions of fishery resources and to assist in the design of the stated preference.

EPA received several comments on the proposed ICR. Most of the received comments did not address focus groups explicitly, but rather the more general topic of resource valuation and stated preference surveys. Many of the submitted comments were empirical in nature and are therefore appropriately addressed within the survey design process. Some commenters argued that non-use benefits in the Phase III policy context are likely to be trivial and unreliable. EPA considers stated preference methods capable of measuring the total values (including use and non-use) of fish affected by impingement and entrainment, if a survey is appropriately designed. Moreover, focus groups represent one of the primary means of assessing whether many of the commenters' remarks are indeed accurate regarding the inability of survey instruments to measure non-use values for fish affected by entrainment and impingement. EPA also points out that there is significant evidence in the empirical literature as to the substantive nature of non-use benefits.

For a detailed discussion of these issues, see EPA's response to public comments for the ICR notice published on November 23, 2004 (69 FR 68140).

An agency may not conduct or sponsor, and a person is not required to respond to, a collection of information unless it displays a currently valid OMB control number. The OMB control numbers for EPA's regulations in 40 CFR are listed in 40 CFR part 9 and are identified on the form and/or instrument, if applicable.

Burden Statement: The annual public reporting and record keeping burden for this collection of information is estimated to average 160 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Focus group participants.

Estimated Number of Respondents: 96.

Frequency of Response: Once.

Estimated Total Annual Hour Burden: 256 hours.

Estimated Total Annual Cost: $5,000, which includes $0 capital/startup costs and O&M costs, and $5,000 labor costs.

Dated: March 16, 2005.
Oscar Morales,
Director, Collection Strategies Division.

[FR Doc. 05-5817 Filed 3-23-05; 8:45 am]

BILLING CODE 6560-50-P